DEPARTMENT OF COMMERCE

National Oceanic and Atmospheric Administration

RIN 0648-XA504

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Regional Administrator, Southwest Region, NMFS, has made a preliminary determination that an application for an Exempted Fishing Permit (EFP) warrants further consideration. The application was submitted by members of the Pacific sardine fishing industry who request an exemption from seasonal closures of the directed fishery to conduct a survey designed to estimate the population size of Pacific sardine. NMFS requests public comment on the application. NMFS will make a final decision about whether to issue an EFP after consideration of those comments.

DATES: Comments must be received by July 12, 2011.

ADDRESSES: You may submit comments on this notice identified by 0648-XA504 by any one of the following methods:

• Mail: Rodney R. McInnis, Regional Administrator, Southwest Region, NMFS, 501 West Ocean Blvd., Suite 4200, Long Beach, CA 90802.

• Fax: (562) 980-4047, Att: Joshua Lindsay.

FOR FURTHER INFORMATION CONTACT: A copy of the application can be viewed at the following Web site: http://swr.nmfs.noaa.gov; or by contacting Joshua Lindsay, Southwest Region, NMFS, (562) 980-4034; joshua.lindsay@noaa.gov.

SUPPLEMENTARY INFORMATION: On May 25, 2011, NMFS published a final rule implementing the harvest guideline (HG) and annual specifications for the 2011 Pacific sardine fishing season off the U.S. West Coast (76 FR 30276). As part of these management measures the Council recommended, and NMFS approved, that 4,200 metric tons (mt) of the maximum harvest guideline (HG) be initially subtracted and set aside for potential industry-based research projects. Members of the Pacific sardine fishing industry, concerned about the difficulty of securing fishing vessels for research purposes during the normal fishing season, requested this separate allocation so that they could conduct research fishing activities after fishing is closed. The 4,200 mt set-aside was intended to allow for potential research fishing in the second seasonal period (July 1-September 14, 2009) and third seasonal period (September 15-December 31, 2009), to continue if that period's directed fishery allocation is reached and directed fishing is closed.

An EFP is required to conduct the fishing activities proposed by the applicants to occur when directed fishing is otherwise not allowed. At the March 2011 Council meeting, the Council reviewed an EFP application that proposed to utilize 2,700 mt of the 4,200 mt initially set aside. The applicants proposed using 2,700 mt to replicate the summer survey conducted under similar EFPs in 2009 and 2010, but with an expanded sample size. The proposal went forward for public comment and was reviewed by the Council again at their April meeting, at which time the Council recommended that NMFS approve and issue the EFP. Any public comment received in response to this notice will be considered by NMFS in determining whether to approve and issue the EFP.

One of the goals set forth in the EFP application is the development of an index of biomass for Pacific sardine, with the desire that this index be included in the subsequent Pacific sardine stock assessment. If NMFS does not issue an EFP, then the set-aside will be re-allocated to the directed harvest allocation of the third allocation period. Any research set aside attributed to an EFP for use during the closed fishing time in the second allocation period (prior to September 15), but not utilized, would also roll into the directed fishery allocation for the third allocation period.

Authority: 16 U.S.C. 1801 et seq.

Dated: June 22, 2011.
Margo Schulze-Haugen,
Acting Director, Office of Sustainable Fisheries, National Marine Fisheries Service.

[FR Doc. 2011-16037 Filed 6-24-11; 8:45 am]

BILLING CODE 3510-22-P